DEPARTMENT OF HEALTH AND HUMAN SERVICES

Centers for Medicare & Medicaid Services

[CMS-1135-CN]

RIN 0938-0938-ZA14

Medicare Program; Hospice Wage Index Fiscal Year 2001; Correction Notice

AGENCY: Centers for Medicare & Medicaid Services (CMS), HHS.

ACTION: Correction of notice.

SUMMARY: This document corrects technical errors that appeared in the notice published in the Federal Register, (65 FR 60072) on October 6, 2000 entitled “Hospice Wage Index.”

EFFECTIVE DATE: October 1, 2000.

FOR FURTHER INFORMATION CONTACT: Lynn Riley, (410) 786-1286.

SUPPLEMENTARY INFORMATION: In the October 6, 2000 notice entitled “Hospice Wage Index,” there were several technical and typographic errors. Due to the typographical errors, we are correcting several hospice wage index values as published in the October 6, 2000 notice (65 FR 60072). Specifically, Table A reflects the correct hospice wage index values for MSA code numbers, 0600, 0840, 1950, 1960, 2000, 2020, 2040, 2840, 2880, 3285, 5140, 5483, 6020, 6483, 6640, 6780, 6800, and 8160. Table B lists the correct hospice wage index value for MSA code number 9950. This Correction Notice conforms the published hospice wage index values to the values used to make payment as of October 1, 2000.

In addition, the MSA code numbers 8050 through 8800 on page 60079 in Table A were inadvertently misplaced. We are correcting Table A by moving MSA codes 8050 through 8800 to be between MSA codes 8003 and 8840, located on page 60078.

Table A.—Hospice Wage Index for Urban Areas
MSA code No. | Urban area (constituent counties or county equivalents) ¹ | Wage index ²
0600 | Augusta-Aiken, GA-SC | 0.9604
| Columbia, GA
| McDuffie, GA
| Richmond, GA
| Aiken, SC
| Edgefield, SC
0840 | Beaumont-Port Arthur, TX | 0.9188
| Hardin, TX
| Jefferson, TX
| Orange, TX
1950 | Danville, VA | 0.9655
| Danville City, VA
| Pittsylvania, VA
1960 | Davenport-Moline-Rock Island, IA-IL | 0.9277
| Scott, IA
| Henry, IL
| Rock Island, IL
2000 | Dayton-Springfield, OH | 1.0080
| Clark, OH
| Greene, OH
| Miami, OH
| Montgomery, OH
2020 | Daytona Beach, FL | 0.9576
| Flagler, FL
| Volusia, FL
2040 | Decatur, IL | 0.8866
| Macon, IL
2840 | Fresno, CA | 1.0934
| Fresno, CA
| Madera, CA
2880 | Gadsden, AL | 0.9257
| Etowah, AL
3285 | Hattiesburg, MS | 0.8133
| Forrest, MS
| Lamar, MS
5140 | Missoula, MT | 0.9680
| Missoula, MT
5483 | New Haven-Bridgeport-Stamford-Waterbury-Danbury, CT | 1.3165
| Fairfield, CT
| New Haven, CT
6020 | Parkersburg-Marietta, WV-OH | 0.8966
| Washington, OH
| Wood, WV
6483 | Providence-Warwick-Pawtucket, RI | 1.1390
| Bristol, RI
| Kent, RI
| Newport, RI
| Providence, RI
| Washington, RI
6640 | Raleigh-Durham-Chapel Hill, NC | 1.0169
| Chatham, NC
| Durham, NC
| Franklin, NC
| Johnston, NC
| Orange, NC
| Wake, NC
6780 | Riverside-San Bernardino, CA | 1.1944
| Riverside, CA
| San Bernardino, CA
6800 | Roanoke, VA | 0.8671
| Botetourt, VA
| Roanoke, VA
| Roanoke City, VA
| Salem City, VA
8160 | Syracuse, NY | 1.0029
| Cayuga, NY
| Madison, NY
| Onondaga, NY
| Oswego, NY
¹ This column lists each MSA area name (in italics) and each county, or county equivalent, in the MSA area. Counties not listed in this Table are considered to be Rural Areas. Wage Index values for these areas are found in Table B.
² Wage index values are based on FY 1996 hospital cost report data before reclassification. This wage index is further adjusted. Wage index values greater than 0.8 are subject to a budget-neutrality adjustment of 1.065425. Wage index values below 0.8 are adjusted to be the greater of a 15-percent increase, subject to a maximum wage index value of 0.8, or an adjustment by multiplying the hospital wage index value for a given area by the budget-neutrality adjustment. We have completed all of these adjustments and included them in the wage index values reflected in this table.

Table B.—Wage Index for Rural Areas
MSA Code No. | Nonurban area | Wage index ¹
9950 | Washington | 1.1130
¹ Wage index values are based on FY 1996 hospital cost report data before reclassification. This wage index is further adjusted. Wage index values greater than 0.8 are subject to a budget-neutrality adjustment of 1.065425. Wage index values below 0.8 are adjusted to be the greater of a 15-percent increase, subject to a maximum wage index value of 0.8, or an adjustment by multiplying the hospital wage index value for a given area by the budget-neutrality adjustment. We have completed all of these adjustments and have included them in the wage index values reflected in this table.

(Catalog of Federal Domestic Assistance Program No. 93.773 Medicare—Hospital Insurance Program; and No. 93.774, Medicare— Supplementary Medical Insurance Program)

Dated: July 18, 2001.
Brian P. Burns,
Deputy Assistant Secretary for Information Resources Management.

[FR Doc. 01-18524 Filed 7-27-01; 8:45 am]

BILLING CODE 4120-03-P